DEPARTMENT OF LABOR

Occupational Safety and Health Administration

[Docket No. NRTL1-90]

Communication Certification Laboratory, Application for Renewal and Expansion of Recognition; Withdrawal of Sites of Other NRTLs

AGENCY: Occupational Safety and Health Administration (OSHA), Labor.

ACTION: Notice.

SUMMARY: This notice announces the application of Communication Certification Laboratory, Inc., for renewal of its recognition as a Nationally Recognized Testing Laboratory and for expansion of its recognition to use additional test standards. This notice also presents the Agency's preliminary finding. This preliminary finding does not constitute an interim or temporary approval of these applications. In an unrelated matter, this notice also announces the voluntary withdrawals of recognition of the Electrical Reliability Services, Inc., (formerly Electro-Test, Inc.) site located in Brea, California, and the SGS U.S. Testing Company site located in Los Angeles, California.

DATES: You may submit comments in response to the expansion application portion of this notice, or any request for extension of the time to comment, by (1) Regular mail, (2) express or overnight delivery service, (3) hand delivery, (4) messenger service, or (5) FAX transmission (facsimile). Because of security-related problems there may be a significant delay in the receipt of comments by regular mail. Comments (or any request for extension of the time to comment) must be submitted by the following dates:

Regular mail and express delivery service: Your comments must be postmarked by December 9, 2004.

Hand delivery and messenger service: Your comments must be received in the OSHA Docket Office by December 9, 2004. OSHA Docket Office and Department of Labor hours of operation are 8:15 a.m. to 4:45 p.m.

Facsimile and electronic transmission: Your comments must be sent by December 9, 2004.

ADDRESSES: Regular mail, express delivery, hand-delivery, and messenger service: You must submit three copies of your comments and attachments to the OSHA Docket Office, Docket NRTL1-90, Room N-2625, U.S. Department of Labor, Occupational Safety and Health Administration, 200 Constitution Avenue, NW., Washington, DC 20210. Please contact the OSHA Docket Office at (202) 693-2350 for information about security procedures concerning the delivery of materials by express delivery, hand delivery and messenger service.

Facsimile: If your comments, including any attachments, are 10 pages or fewer, you may fax them to the OSHA Docket Office at (202) 693-1648. You must include the docket number of this notice, Docket NRTL1-90, in your comments.

Internet access to comments and submissions: OSHA will place comments and submissions in response to this notice on the OSHA Web page http://www.osha.gov. Accordingly, OSHA cautions you about submitting information of a personal nature (e.g., social security number, date of birth). There may be a lag time between when comments and submissions are received and when they are placed on the Web page. Please contact the OSHA Docket Office at (202) 693-2350 for information about materials not available through the OSHA Web page and for assistance in using the Web page to locate docket submissions. Comments and submissions will also be available for inspection and copying at the OSHA Docket Office at the address above.

Extension of Comment Period: Submit requests for extensions concerning this notice to: Office of Technical Programs and Coordination Activities, NRTL Program, Occupational Safety and Health Administration, U.S. Department of Labor, Room N3653, 200 Constitution Avenue, NW., Washington, DC 20210. Or fax to (202) 693-1644.

FOR FURTHER INFORMATION CONTACT: Sherrey Nicolas, Office of Technical Programs and Coordination Activities, NRTL Program, Room N3653 at the address shown immediately above for the program, or phone (202) 693-2110.

SUPPLEMENTARY INFORMATION:

Notice of Application

The Occupational Safety and Health Administration (OSHA) hereby gives notice that Communication Certification Laboratory, Inc. (CCL), has applied for renewal and for expansion of its recognition as a Nationally Recognized Testing Laboratory (NRTL). CCL's expansion requests cover the use of additional test standards. OSHA's current scope of recognition for CCL may be found in the following informational Web page: http://www.osha-slc.gov/dts/otpca/nrtl/ccl.html.

OSHA recognition of an NRTL signifies that the organization has met the legal requirements in § 1910.7 of Title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL, which details its scope of recognition. These pages can be accessed from our Web site at http://www.osha-slc.gov/dts/otpca/nrtl/index.html.

The most recent notices published by OSHA for CCL's recognition covered its prior renewal of recognition, which became effective on April 2, 1998 (63 FR 16279).

The current address of the CCL facility (site) already recognized by OSHA is: Communication Certification Laboratory, Inc., 1940 West Alexander Street, Salt Lake City, Utah 84119.

General Background on the Applicant and Applications

Communication Certification Laboratory (CCL) initially received OSHA recognition as a Nationally Recognized Testing Laboratory on June 21, 1991 (56 FR 28579) for a five-year period ending on June 21, 1996. CCL properly requested a renewal of recognition, and OSHA granted CCL first renewal on April 2, 1998 (63 FR 16279) for another five-year period ending April 2, 2003.

Appendix A to 29 CFR 1910.7 stipulates that the period of recognition of an NRTL is five years and that an NRTL may renew its recognition by applying not less than nine months, nor more than one year, before the expiration date of its current recognition. NRTLs submitting requests within this allotted time period retain their recognition during OSHA's renewal process. CCL has submitted a request, dated June 26, 2002 (see exhibit 11), to renew its recognition, within the allotted time period, and retains its recognition pending OSHA's final decision in this renewal process. CCL's existing scope of recognition consists of the facility listed above, and the test standards and supplemental programs listed below under Renewal of Recognition.

In its request, CCL also requested expansion of its recognition to include three additional test standards but amended its request to just two additional standards, which the NRTL Program staff has determined to be appropriate test standards, within the meaning of 29 CFR 1910.7(c). (The staff makes similar determinations in processing expansion requests from any NRTL.) Therefore, OSHA would approve the two test standards for the expansion, which are listed below under Expansion of Recognition.

For purposes of processing CCL's request, OSHA NRTL Program staff performed two on-site reviews of CCL's facility on October 29-30, 2003, and November 18-20, 2002. In the memo for the on-site reviews (see Exhibit 12), the staff recommended CCL's renewal and its expansion to include the two test standards requested.

Renewal of Recognition

CCL seeks renewal of its recognition for the one site that OSHA currently includes within the NRTL's scope. CCL also seeks renewal of its recognition for testing and certification of products for demonstration of conformance to the following four test standards, which OSHA has previously recognized for CCL. Two of those standards, UL 1459 and UL 1950, have been withdrawn by the standards developing organization. However, since the scope of recognition of other NRTLs may include these standards, we are including them temporarily in the renewal. In the near future, we will publish another Federal Register notice in order to remove or replace these and other withdrawn standards, at the same time, from the scope of recognition of all applicable NRTLs.

UL1012 Power Units Other Than Class 2

UL 1459 Telephone Equipment

UL 1950 Safety of Information Technology Equipment, Including Electrical Business Equipment

UL 60950 Information Technology Equipment

OSHA's recognition of CCL, or any NRTL, for a particular test standard is limited to equipment or materials (i.e., products) for which OSHA standards require third party testing and certification before use in the workplace. Consequently, an NRTL's scope of recognition excludes any product(s) falling within the scope of a test standard for which OSHA has no NRTL testing and certification requirements.

Many UL test standards also are approved as American National Standards by the American National Standards Institute (ANSI). However, for convenience, we use the designation of the standards developing organization for the standard as opposed to the ANSI designation. Under our procedures, any NRTL recognized for an ANSI-approved test standard may use either the latest proprietary version of the test standard or the latest ANSI version of that standard. You may contact ANSI to find out whether or not a test standard is currently ANSI-approved.

Programs and Procedures

The renewal would include CCL's continued use of any supplemental programs for which it is approved, based upon the criteria detailed in OSHA's March 9, 1995, Federal Register notice on the NRTL programs (60 FR 12980). This notice lists nine (9) programs, eight of which (called the supplemental programs) an NRTL may use to control and audit, but not actually to generate, the data relied upon for product certification. An NRTL's initial recognition will always include the first or basic program, which requires that all product testing and evaluation be performed in-house by the NRTL that will certify the product. OSHA has already recognized CCL for program(s) listed below. See http://www.osha-slc.gov/dts/otpca/nrtl/ccl.html.

Program 9: Acceptance of services other than testing or evaluation performed by subcontractors or agents.

OSHA developed these programs to limit how an NRTL may perform certain aspects of its work and to permit the activities covered under a program only when the NRTL meets certain criteria. In this sense, they are special conditions that the Agency places on an NRTL's recognition. OSHA does not consider these programs in determining whether an NRTL meets the requirements for recognition under 29 CFR 1910.7. However, these programs help to define the scope of that recognition.

Expansion of Recognition

CCL seeks recognition for two test standards, and OSHA has determined that the standards are appropriate, within the meaning of 29 CFR 1910.7(c).

UL 6500 Audio/Visual and Musical Instrument Apparatus for Household, Commercial, and Similar General Use

UL 61010A-1 Electrical equipment for measurement, control, and laboratory use

The NRTL Program staff did perform an on-site review in connection with the expansion request and provided a positive recommendation on the expansion (see Exhibit 12).

Preliminary Finding

CCL has submitted acceptable requests for renewal and expansion of its recognition as an NRTL. Our review of the application file, the on-site review reports, and other pertinent documents, indicates that CCL can meet the requirements, as prescribed by 29 CFR 1910.7, for: (1) The renewal for the one site and the test standards and program listed above, and (2) the expansion for the additional two test standards, also listed above. This preliminary finding does not constitute an interim or temporary approval of the application.

OSHA welcomes public comments, in sufficient detail, as to whether CCL has met the requirements of 29 CFR 1910.7 for the renewal and expansion of its recognition as a Nationally Recognized Testing Laboratory. Your comments should consist of pertinent written documents and exhibits. To consider a comment, OSHA must receive it at the address provided above (see ADDRESSES), no later than the last date for comments (see DATES above). Should you need more time to comment, OSHA must receive your written request for extension at the address provided above no later than the last date for comments. You must include your reason(s) for any request for extension. OSHA will limit any extension to 30 days, unless the requester justifies a longer period. We may deny a request for extension if it is frivolous or otherwise unwarranted. You may obtain or review copies of CCL's requests, the on-site review report, other exhibits, and all submitted comments, as received, by contacting the Docket Office, Room N2625, Occupational Safety and Health Administration, U.S. Department of Labor, at the above address. You should refer to Docket No. NRTL1-90, the permanent record of public information on CCL's recognition.

The NRTL Program staff will review all timely comments and, after resolution of issues raised by these comments, will recommend whether to grant CCL's renewal and expansion requests. The Assistant Secretary will make the final decision on granting the renewal and expansion and, in making this decision, may undertake other proceedings that are prescribed in Appendix A to 29 CFR Section 1910.7. OSHA will publish a public notice of this final decision in the Federal Register.

Notice of Voluntary Termination

In an unrelated matter, Electrical Reliability Services, Inc., (formerly Electro-Test, Inc.) has requested that OSHA withdraw the recognition of the NRTL's site located in Brea, California (see docket NRTL2-94, Exhibit 15). This withdrawal is effective immediately, and OSHA will take no further action on it. OSHA recognized this site for ETI on October 6, 1995 (60 FR 52417), but, at the time, the site was in another city.

In addition, SGS U.S. Testing Company has requested that OSHA withdraw the recognition of the NRTL's site located in Los Angeles, California (see docket NRTL2-90, Exhibit 18). This withdrawal is effective immediately, and OSHA will take no further action on it. OSHA recognized this site for SGS on March 23, 1993 (58 FR 15509).

Under section II.D of Appendix A to 29 CFR 1910.7, OSHA must “inform the public of any voluntary termination by Federal Register notice.” These actions are unrelated to our preliminary finding on the CCL renewal and expansion request. We include them herein only for adminstrative convenience.

Signed at Washington, DC this 9th day of November, 2004.
John L. Henshaw,
Assistant Secretary.

[FR Doc. 04-26012 Filed 11-23-04; 8:45 am]

BILLING CODE 4510-26-P